NATIONAL SCIENCE FOUNDATION

Proposal Review Panel Physics; Notice of Meeting

In accordance with the Federal Advisory Committee Act (Pub. L. 92-463, as amended), the National Science Foundation announces the following meeting.

Name: NSF Site Visit Review of the National Superconducting Cyclotron Laboratory, #1208.

Date and Time: June 18, 2013—8:00 a.m. to 6:00 p.m.; June 19, 2013—8:30 a.m. to 1:00 p.m.

Place: Michigan State University; East Lansing, MI.

Type of Meeting: Partial Closed.

Contact Person: Dr. Gail Dodge, Program Director for Nuclear Physics; National Science Foundation, 4201 Wilson Blvd., Arlington, VA 22230. Telephone: (703) 292-8958.

Purpose of Meeting: Annual Site Visit as per the terms of the Laboratory's Five-year Cooperative Agreement.

Agenda

June 18, 2013

8:00 a.m.-10:15 a.m. Closed—Executive Session, Laboratory, Operations, Upgrades and Commissioning Overview

10:15 a.m.-11:15 a.m. Open—Accelerator Physics Research, and Research, Education and Mentoring Overview

11:15 a.m.-11:45 a.m. Closed—Executive Session

12:00 p.m.-12:45 p.m. Open—Meet with President and Provost

12:45 p.m.-1:00 p.m. Closed—Executive Session

1:00 p.m.-3:00 p.m. Open—ReA3, Astrophysics, GRETINA, MoNA Decay Studies, BECOLA, and LEBIT

3:00 p.m.-3:40 p.m. Open—Meet with Students and Postdocs

3:40 p.m.-5:00 p.m. Open—Tour

5:00 p.m.-6:00 p.m. Closed—Executive Session

June 19, 2013

8:30 a.m.-1:00 p.m. Closed—Executive Session and Report Writing

Reason for Closing: The work being reviewed includes information of a proprietary or confidential nature, including technical information; financial data, such as salaries; and personal information concerning individuals associated with the proposals. These matters are exempt under (4) and (6) of 5 U.S.C. 552b(c), the Government in the Sunshine Act.

Dated: May 15, 2013.
Susanne Bolton,
Committee Management Officer.

[FR Doc. 2013-11996 Filed 5-20-13; 8:45 am]

BILLING CODE 7555-01-P